DEPARTMENT OF THE TREASURY

Office of Thrift Supervision

Submission for OMB Review; Comment Request

August 18, 2000.

The Office of Thrift Supervision (OTS) has submitted the following public information collection requirement(s) to OMB for review and clearance under the Paperwork Reduction Act of 1995, Public Law 104-13. Interested persons may obtain copies of the submission(s) by calling the OTS Clearance Officer listed. Send comments regarding this information collection to the OMB reviewer listed and to the OTS Clearance Officer, Office of Thrift Supervision, 1700 G Street, NW., Washington, DC 20552.

DATES: Submit written comments on or before September 25, 2000.

OMB Number: 1550-0037.

Form Number: OTS Form 1240.

Type of Review: Regular.

Title: Fiduciary Powers of Federal Savings Associations.

Description: 2 CFR part 550 required Federal savings associations that want to exercise fiduciary powers to file an application containing information sufficient for adequate OTS review. Part 550 also requires Federal savings associations to keep adequate fiduciary records, including, but not limited to, documentation of the establishment and termination of each fiduciary account; requires Federal savings associations to note at least annually in the minutes of the Board of Directors' meeting the results of an audit (required at least once every calendar year) of its fiduciary activities; and requires Federal savings associations seeking to surrender their authority to exercise fiduciary powers to file with the OTS a certified copy of the resolution of its Board of Directors evidencing that intent.

Respondents: Savings and Loan Associations and Savings Banks.

Estimated Number of Responses: 88.

Estimated Burden Hours Per Response: 3 hours.

Frequency of Response: Annually.

Estimated Total Reporting Burden: 261 hours.

Clearance Officer: Ralph E. Maxwell, (202) 906-7740, Office of Thrift Supervision, 1700 Street, NW., Washington, DC 20552.

OMB Reviewer: Alexander Hunt, (202) 395-7860, Office of Management and Budget, Room 10202, New Executive Office Building, Washington, DC 20503.

John E. Werner,
Director, Information and Management Services.

[FR Doc. 00-21609 Filed 8-23-00; 8:45 am]

BILLING CODE 6720-01-P